UNITED STATES INSTITUTE OF PEACE

Notice of Board of Directors Meeting

AGENCY: United States Institute of Peace (USIP) and Endowment of the United States Institute of Peace.

ACTION: Announcement of meeting.

SUMMARY: Meeting of the Board of Directors: Chair's Report; Vice Chair's Report; President's Report; Approval of Minutes; USIP Key Current Initiatives: Russia and Ukraine; China and Taiwan; and Security Sector Reform; Reports from USIP Board Committees: Governance and Compliance; Strategy and Program; Audit and Finance; Security and Facilities; and Talent and Culture.

DATES: Friday, April 22, 2022 (10:00 a.m.-12:00 p.m.).

ADDRESSES: Virtual Board Meeting Information: Join by video: https://usip-org.zoomgov.com/j/1611994200?pwd=NlkyZTVWdDNzNC8rS0lFQlN3QU12dz09; Meeting ID:161 199 4200; Passcode: 392468.

FOR FURTHER INFORMATION CONTACT: Megan O'Hare, 202-429-4144, mohare@usip.org.

SUPPLEMENTARY INFORMATION: Open Session—Portions may be closed pursuant to subsection (c) of section 552b of title 5, United States Code, as provided in subsection 1706(h)(3) of the United States Institute of Peace Act, Public Law 98-525.

Authority: 22 U.S.C. 4605(h)(3).

Dated: April 15, 2022.
Rebecca Fernandes,
Director of Accounting.

[FR Doc. 2022-08468 Filed 4-19-22; 8:45 am]

BILLING CODE 6820-AR-P